Title 3—

The President

Proclamation 7807 of September 4, 2004

Minority Enterprise Development Week, 2004

By the President of the United States of America

A Proclamation

Minority businesses are a key component of the American economy and reflect the values that make our country strong. They create opportunities for workers, provide goods and services to consumers, and strengthen our communities. During Minority Enterprise Development Week, we celebrate the achievements of minority businesses and emphasize our commitment to creating an environment in which these entrepreneurs can succeed.

All of America benefits from the strong and vibrant entrepreneurial spirit of our small business owners. By reducing taxes, encouraging investment, and removing obstacles to growth, my Administration has helped American businesses thrive and create nearly 1.7 million new jobs since August 2003. In addition, the number of Small Business Administration loans to minorities increased by 40 percent last year to a 50-year record level. And my fiscal year 2005 budget request includes a 21 percent increase in funding for the Department of Commerce's Minority Business Development Agency, the largest increase in more than a decade.

To help provide sustainable outreach to minority enterprises, my Administration is working with the National Urban League to create an entrepreneurship network to further expand minority business ownership. With the help of government agencies, the private sector, and faith-based and community organizations, this network will include one-stop centers for business training, counseling, financing, and contracting and will focus resources toward facilitating economic growth and enterprise in historically neglected areas.

More minorities own small businesses than ever before. That is good for our citizens and good for our country. Together, we can create an environment where entrepreneurs can flourish and everyone can realize the American Dream.

NOW, THEREFORE, I, GEORGE W. BUSH, President of the United States of America, by virtue of the authority vested in me by the Constitution and laws of the United States, do hereby proclaim September 5 through September 11, 2004, as Minority Enterprise Development Week. I call upon all Americans to celebrate this week with appropriate programs, ceremonies, and activities and to recognize the countless contributions of our Nation's minority enterprises.

IN WITNESS WHEREOF, I have hereunto set my hand this fourth day of September, in the year of our Lord two thousand four, and of the Independence of the United States of America the two hundred and twenty-ninth.

B

[FR Doc. 04-20550

Filed 9-8-04; 8:45 am]

Billing code 3195-01-P